DEPARTMENT OF ENERGY

Federal Energy Regulatory Commission

[Docket No. CP04-2-000]

Yankee Gas Services Company; Notice of Filing

October 9, 2003.

Take notice that on October 3, 2003, Yankee Gas Services Company (Yankee Gas) filed, pursuant to Section 284.224 of the Commission's Regulations, an application for a blanket certificate of public convenience and necessity authorizing the transportation of natural gas in interstate commerce to the same extent and in the same manner that intrastate pipelines are authorized to engage in such activities pursuant to Subpart C of Part 284 of the Commission Regulations.

Yankee Gas states that a copy of its application has been served on the Connecticut Department of Public Utility Control.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Comment Date: October 16, 2003.

Magalie R. Salas,
Secretary.

[FR Doc. E3-00256 Filed 11-14-01; 8:45 am]

BILLING CODE 6717-01-P